DEPARTMENT OF TRANSPORTATION

Coast Guard

33 CFR Part 117

[CGD01-01-121]

Drawbridge Operation Regulations: Piscataqua River, ME

AGENCY: Coast Guard, DOT.

ACTION: Notice of temporary deviation from regulations.

SUMMARY: The Commander, First Coast Guard District, has issued a temporary deviation from the drawbridge operation regulations for the Memorial (US 1) Bridge, mile 3.5, across the Piscataqua River between Kittery, Maine and Portsmouth, New Hampshire. This deviation from the regulations, effective on July 26, 30 and 31, 2001, allows the bridge to need not open for vessel traffic between 5 a.m. and 5 p.m. This temporary deviation is necessary to facilitate necessary repairs at the bridge.

DATES: This deviation is effective from July 26 through July 31, 2001.

FOR FURTHER INFORMATION CONTACT: John McDonald, Project Officer, First Coast Guard District, at (617) 223-8364.

SUPPLEMENTARY INFORMATION: The Memorial (US 1) Bridge, at mile 3.5, across the Piscataqua River has a vertical clearance in the closed position of 11 feet at mean high water and 19 feet at mean low water. The existing drawbridge operating regulations are at 33 CFR 117.531.

The bridge owner, New Hampshire Department of Transportation (NHDOT), requested a temporary deviation from the drawbridge operating regulations to facilitate replacement of the bridge lift cables for the bridge.

This deviation to the operating regulations, effective from July 26 through July 31, 2001, allows the Memorial (US 1) Bridge to need not open for vessel traffic between 5 a.m. and 5 p.m. on July 26, 30, and 31.

The bridge owner did not provide the required thirty-day notice to the Coast Guard for this temporary deviation; however, this deviation was approved because the repairs are considered to be vital unscheduled repairs that must be performed without delay to insure bridge operating safely and to prevent an unscheduled closure due to component failure.

In accordance with 33 CFR 117.35(c), this work will be performed with all due speed in order to return the bridge to normal operation as soon as possible.

This deviation from the operating regulations is authorized under 33 CFR 117.35.

Dated: July 20, 2001.
G.N. Naccara,
Rear Admiral, U.S. Coast Guard, Commander, First Coast Guard District.

[FR Doc. 01-18922 Filed 7-27-01; 8:45 am]

BILLING CODE 4910-15-U